SOCIAL SECURITY ADMINISTRATION

[Docket No: SSA-2025-0519]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

(SSA) Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items. Please reference Docket ID Number [SSA-2025-0519] in your submitted response.

I. The information collections below are pending at SSA. SSA will submit them to OMB within 60 days from the date of this notice. To be sure we consider your comments, we must receive them no later than February 17, 2026. Individuals can obtain copies of the collection instruments by writing to the above email address.

1. Application for Child's Insurance Benefits—20 CFR 404.350-404.368, 404.603, & 416.350—0960-0010. Title II of the Social Security Act (Act) provides for the payment of monthly benefits to children of an insured worker who is retired, disabled, or deceased. Section 202(d) of the Act discloses the conditions and requirements SSA requires the applicant to meet when filing an application. SSA uses the information provided by applicants on Form SSA-4-BK to determine entitlement for children of living and deceased workers to monthly Social Security payments. The respondents are guardians completing the form on behalf of the children of retired, living or deceased workers.

Note: We are making a minor revision by adding “or adoptive” to question #4 to clarify that adoptive children also may qualify to receive benefits. In addition, we are updating the Privacy Act Statement on this form to comply with current legal requirements.

Type of Request: Revision of an OMB-approved information collection.

Modality of completion | Number of respondents | Frequency of response | Average burden per response (minutes) | Estimated total annual burden (hours) | Average theoretical hourly cost amount (dollars) * | Average wait time in field office and teleservice centers (minutes) *** | Total annual opportunity cost (dollars) ***
SSA-4-BK (Death Claim): Paper | 1,702 | 1 | 12 | 340 | * $32.66 | ** 0 | *** $11,104
SSA-4-BK (Death Claim): MCS Interview | 235,166 | 1 | 11 | 43,114 | * 32.66 | ** 32 | ** 5,504,386
SSA-4-BK (Life Claim): Paper | 2,912 | 1 | 12 | 582 | * 32.66 | ** 0 | *** 19,008
SSA-4-BK (Life Claim): MCS Interview | 332,333 | 1 | 11 | 60,928 | * 32.66 | ** 32 | *** 7,778,698
Totals | 572,113 |  |  | 104,964 |  |  | *** 13,313,196
* We based this figure on average U.S. citizen's hourly salary, as reported by Bureau of Labor Statistics data (Occupational Employment and Wage Statistics).
** We based this figure on the average combined FY 2026 wait times for field offices (16 minutes) and for teleservice centers (47 minutes which includes the average speed of answer of 6 minutes as well as the average 41 minute wait time for a call back from an SSA technician), based on SSA's current management information data. This figure reflects both data from our systems and the data posted on our public facing website (800 number performance | SSA) on the date we drafted this notice. As the figures fluctuate daily, the wait times may be different on the publication date of this notice. We note that we combined these two figures for the purposes of this information collection, as SSA does not track whether the respondents who complete the MCS interview do so via telephone or in person. In addition, we did not calculate wait time for the respondents who use the paper form, as they submit the forms via mail.
*** This figure does not represent actual costs that SSA is imposing on recipients of Social Security payments to complete this application; rather, these are theoretical opportunity costs for the additional time respondents will spend to complete the application. There is no actual charge to respondents to complete the application.

2. Help America Vote Act—0960-0706. Public Law 107-252, the Help America Vote Act of 2002, mandates that States verify the identities of newly registered voters. When newly registered voters do not have driver's licenses or State-issued ID cards, they must supply the last four digits of their Social Security number to their local State election agencies for verification. The election agencies forward this information to their State Motor Vehicle Administration (MVA), and the State MVA inputs the data into the American Association of MVAs (AAMVA), a central consolidation system that routes the voter data to SSA's Help America Vote Verification (HAVV) system. SSA's HAVV system returns the result (a “match” or “no match” of name, DOB, and last four digits of an SSN) to the AAMVA hub, which then routes the information back to the state MVA. The respondents are the State MVAs seeking to confirm voter identities.

Note: We are updating the Privacy Act Statement.

Type of Request: Revision of an OMB-approved information collection.

Modality of completion | Number of respondents | Frequency of response | Number of responses | Average burden per response (minutes) | Estimated total annual burden (hours) | Average theoretical hourly cost amount (dollars) * | Total annual opportunity cost (dollars) **
HAVV | + 45 | 121,013 | 5,445,585 | 2 | 181,520 | * $24.14 | ** $4,381,893
+ The 45 respondents here represent the number of states participating in HAVV. SSA has agreements with forty-four states and one territory (Puerto Rico) for the use of HAVV to support their states' voter registration process. Five States (i.e. New Mexico, Kentucky, South Carolina, Tennessee, and Virginia) are permitted to use the 9-digit SSN on applications for voter registration; therefore, these States do not obtain SSN verifications from SSA through HAVV for voter registration (which requires states to use on the last four digits of the SSN for verification). North Dakota has no voter registration requirement and, therefore, does not use the HAVV system.
* We based this figure on the average Information and Record Clerks, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

Cost Burden: Per our current management information data, the 45 state MVAs participating in HAVA each pay an annual maintenance cost of $1,344.88. Additionally, states pay .30 per verification request. Therefore, the total annual cost to respondents is $60,520.

II. SSA submitted the information collections below to OMB for clearance. Your comments regarding these information collections would be most useful if OMB and SSA receive them 30 days from the date of this publication. To be sure we consider your comments, we must receive them no later than January 16, 2026. Individuals can obtain copies of these OMB clearance packages by writing to the OR.Reports.Clearance@ssa.gov.

1. Report to United States Social Security Administration by Person Receiving Benefits for a Child or for an Adult Unable to Handle Funds/Report to the United States Social Security Administration—0960-0049. Section 203(c) of the Act requires the Commissioner of SSA to make benefit deductions and provides for the Commissioner to impose penalty deductions on benefits of individuals who fail to make timely reports of events, which are cause for deductions. SSA uses Forms SSA-7161-OCR-SM and SSA-7162-OCR-SM to: (1) determine continuing entitlement to Social Security benefits; (2) correct benefit amounts for beneficiaries outside the United States; and (3) monitor the performance of representative payees outside the United States (U.S.). This collection is mandatory as an annual (or every other year, depending on the country of residence) review for fraud prevention. In addition, the results can affect benefits by increasing or decreasing payment amount or by causing SSA to suspend or terminate benefits. The respondents are individuals living outside the United States who are receiving benefits on their own (or on behalf of someone else) under Title II of the Act.

Note: SSA is making minor instructional changes to these forms in accordance with Public Law 115-165 which exempts certain representative payees from the annual accounting requirement. We are also updating the Privacy Act Statement on these forms to comply with current legal requirements.

Type of Request: Revision of an OMB-approved information collection.

Modality of completion | Number of respondents | Frequency of response | Average burden per response (minutes) | Estimated total annual burden (hours) | Average theoretical hourly cost amount (dollars) * | Total annual opportunity cost (dollars) **
SSA-7161-OCR-SM | 6,077 | 1 | 15 | 1,519 | * $32.66 | ** $49,611
SSA-7162-OCR-SM | 352,956 | 1 | 5 | 29,413 | * 32.66 | ** 960,629
Totals | 359,033 |  |  | 30,932 |  | ** 1,010,240
* We based this figure on average U.S. worker's hourly wages as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

2. Application for a Social Security Number (SSN) Card, the Social Security Number Application Process (SSNAP), and Online SSN Application Process (oSSNAP)—20 CFR 422.103-422.110—0960-0066. SSA collects information on the SS-5 (used in the U.S.) and SS-5-FS (used outside the U.S.) to issue original or replacement Social Security cards. SSA also enters the application data into the SSNAP application when issuing a card via telephone or in person. In addition, hospitals collect the same information on SSA's behalf for newborn children through the Enumeration at Birth (EAB) process. In this process, parents of newborns provide hospital birth registration clerks with information required to register these newborns. Hospitals send this information to State Bureaus of Vital Statistics (BVS), and they send the information to SSA's National Computer Center. SSA then uploads the data to the SSA mainframe along with all other enumeration data, and we assign the newborn a SSN and issue a Social Security card. The vast majority of applications for original SSN cards utilize EAB. Finally, oSSNAP collects information similar to that which we collect on the paper SS-5 for no change situations, with the exception of name change, new or replacement SSN cards for U.S. Citizens (adult and minor children), and replacement cards only for non-U.S. citizens. For certain applicants for SSN replacement cards, the modality allows respondents to complete the application using an internet application and submit the required evidence online rather than completing a paper Form SS-5 [formerly the internet SSN Replacement Card (iSSNRC) application]. oSSNAP also allows applicants for new or replacement SSN cards to start the application process online, receive a list of evidentiary documents, and then submit the application data to SSA for further processing by SSA employees. Applicants using oSSNAP in this way then visit a local SSA office to complete the application process.

SSA collects race and ethnicity information as part of the SSN card application process. Response to the race and ethnicity questions is voluntary. The respondents for this information collection are applicants for original and replacement Social Security cards, or individuals who wish to change information in their SSN records, who use any of the modalities described above.

Note: SSA is combining the iSSNRC and oSSNAP screens to streamline these processes for the respondents. Through combining the screens under one application (oSSNAP), respondents can more easily find the electronic process which works best for them to submit their request for a replacement SSN card.

Type of Request: Revision of an OMB-approved information collection.

Application scenario | Number of respondents | Frequency of response | Average burden per response (minutes) | Estimated total annual burden (hours) | Average theoretical hourly cost amount (dollars) * | Average wait time in field office (minutes) ** | Total annual opportunity cost (dollars) ***
EAB Modality
Hospital staff who relay the State birth certificate information to the BVS and SSA through the EAB process | 3,599,746 | 1 | 10 | 599,958 | * $26.91 | ** 0 | *** $16,144,870
oSSNAP Modality
Adult U.S. Citizens requesting a replacement card with no changes using iSSNRC Webservices through oSSNAP | 2,218,960 | 1 | 10 | 369,827 | * 32.66 | ** 0 | *** 12,078,550
Adult U.S. Citizens requesting a replacement card with a name change using iSSNRC Webservices through oSSNAP | 37,820 | 1 | 10 | 6,303 | * 32.66 | ** 0 | *** 205,856
Adult U.S. Citizens providing information to receive a replacement card through the oSSNAP+ | 2,334,386 | 1 | 10 | 389,064 | * 32.66 | ** 16 | *** 33,037,778
Adult U.S. Citizens providing information to receive an original card through the oSSNAP+ | 90,952 | 1 | 10 | 15,159 | * 32.66 | ** 16 | *** 1,287,229
Adult Non-U.S. Citizens providing information to receive an original card through the oSSNAP+ | 786,589 | 1 | 10 | 131,098 | * 32.66 | ** 16 | *** 11,132,324
Adult Non-U.S. Citizens providing information to receive a replacement card through the oSSNAP+ | 214,286 | 1 | 10 | 35,714 | * 32.66 | ** 16 | *** 3,032,710
SSNAP/SS-5 Modality
Respondents who do not have to provide parents' SSNs | 6,764,440 | 1 | 9 | 1,014,666 | * 32.66 | ** 16 | *** 92,052,765
Respondents whom we ask to provide parents' SSNs (when applying for original SSN cards for children under age 12) | 221,751 | 1 | 9 | 33,263 | * 32.66 | ** 16 | *** 3,017,686
Applicants age 12 or older who need to answer additional questions so SSA can determine whether we previously assigned an SSN | 796,688 | 1 | 10 | 132,781 | * 32.66 | ** 16 | *** 11,275,244
Applicants asking for a replacement SSN card beyond the allowable limits (i.e., who must provide additional documentation to accompany the application) | 11,885 | 1 | 60 | 11,885 | * 32.66 | ** 16 | *** 491,663
Enumeration Quality Review
Authorization to SSA to obtain personal information cover letter | + 1 | 1 | 1 | 1 | 1 | 1 | 1
Authorization to SSA to obtain personal information follow-up cover letter | + 1 | 1 | 1 | 1 | 1 | 1 | 1
Grand Total
Totals | 17,077,505 |  |  | 2,739,720 |  |  | *** 183,756,677
+ We are not currently sending out these notices; however, we included a 1-hour placeholder burden for these notices in the event we need to send them out in the near future.
* We based these figures on average Medical Records Specialist, and average U.S. worker's hourly wages as reported by the U.S. Bureau of Labor Statistics (Occupational Employment and Wage Statistics).
** We based this figure on the average FY 2026 wait times for field offices (16 minutes), based on SSA's current management information data. This figure reflects the data posted on our public facing website (800 number performance | SSA) on the date we drafted this notice. As the figures fluctuate daily, the wait times may be different on the publication date of this notice.
*** This figure does not represent actual costs that SSA is imposing on recipients of Social Security payments to complete this application; rather, these are theoretical opportunity costs for the additional time respondents will spend to complete the application. There is no actual charge to respondents to complete the application.

3. Continuing Disability Review Report—20 CFR 404.1589 & 416.989—0960-0072. Sections 221(i), 1614(a)(3)(H)(ii)(I) and 1633(c)(1) of the Act requires SSA to periodically review the cases of individuals who receive benefits under Title II or Title XVI based on disability to determine if their disability continues. SSA considers adults eligible for disability payments if they continue to be unable to do substantial gainful activity because of their impairments, and we consider Title XVI children eligible for disability payment if they have marked and severe functional limitations because of their impairments. To assess claimants' ongoing disability payment eligibility, SSA uses the information gathered through the Continuing Disability Review Report to complete a mandatory review for the continue disability review (CDR).

SSA also uses the Continuing Disability Review Report to obtain information on sources of medical treatment; participation in vocational rehabilitation programs (if any); attempts to work (if any); and recipients' assessments when they believe their conditions improved. Title II or Title XVI disability recipients can complete the Continuing Disability Review Report using one of three modalities:

(1) a paper application or fillable PDF (using Form SSA-454-BK); (2) a field office interview, during which SSA employees enter claimant's data directly into the Electronic Disability Collection System (EDCS); or (3) using an online system (i454), which is a web-based modality that provides recipients a fully electronic platform for submitting information to increase accessibility and enhance automation. When SSA initiates a medical CDR, we send a mailed notice to the individual with a disability informing that individual that SSA requires a CDR. The mailed notice provides instructions to the recipient on how to assist the agency with initiating the CDR and gives the individual the option to complete a paper SSA-454 or an i454 for adult only disabled individuals. When an individual requires a CDR, a claims specialist (CS) mails the paper Form SSA-454-BK, and the respondent completes the form, and sends or brings it back to SSA; or the CS interviews the respondent and enters the information into the appropriate EDCS screens; or adult disabled individuals submit the information electronically using the i454 internet application. Regardless of the modality the respondent uses to complete the information (paper, EDCS, or internet versions), SSA electronically stores the information provided in EDCS. The respondents complete the SSA-454-BK by themselves with self-help information available, or a representative may complete the paper form or electronic application on their behalf. The respondents are Title II or Title XVI disability recipients or their representatives.

Note: We are revising the burden for this information collection, making minor revisions to the language for clarification purposes, and updating the Privacy Act Statement to comply with current legal requirements.

Type of Request: Revision of an OMB-approved information collection.

Application scenario | Number of respondents | Frequency of response | Average burden per response (minutes) | Estimated total annual burden (hours) | Average theoretical hourly cost amount (dollars) ** | Average wait time in field office (minutes) *** | Total annual opportunity cost (dollars) ****
SSA-454-BK (paper version) | 249,194 | 1 | * 600 | 2,491,940 | ** $14.27 | *** 16 | **** $36,508,254
Electronic Disability Collect System (EDCS) | 267,975 | 1 | * 600 | 2,679,750 | ** 14.27 | *** 47 | **** 41,235,505
i454 (Internet) | 45,763 | 1 | * 600 | 457,630 | ** 14.27 | *** 0 | **** 6,530,380
Totals | 562,932 |  |  | 5,629,320 |  |  | **** 84,274,139
* The estimated time of 600 minutes to complete Form SSA-454-BK is an average for the respondents, who are Title II or Title XVI disability recipients or their representatives. Some of these respondents may take longer to complete the forms and submit the information, while others will complete the forms faster, which is why we use average time estimates to calculate time burdens for these information collections. These estimates were originally developed, and are still based on, our current management information data.
** We based this figure on the average DI payments based on SSA's current FY 2026 data (Effect of COLA on Average Social Security Benefits).
*** We based this figure on the average combined FY 2026 wait times for field offices (16 minutes) and for teleservice centers (47 minutes which includes the average speed of answer of 6 minutes as well as the average 41 minute wait time for a call back from an SSA technician), based on SSA's current management information data. This figure reflects both data from our systems and the data posted on our public facing website (800 number performance | SSA) on the date we drafted this notice. As the figures fluctuate daily, the wait times may be different on the publication date of this notice.
**** This figure does not represent actual costs that SSA is imposing on recipients of Social Security payments to complete this application; rather, these are theoretical opportunity costs for the additional time respondents will spend to complete the application. There is no actual charge to respondents to complete the application.

4. Certificate of Coverage Request—20 CFR 404.1913—0960-0554. The U.S, has agreements with 30 foreign countries to eliminate double Social Security coverage and taxation where, except for the provisions of the agreement, a worker would be subject to coverage and taxes in both countries. Each Agreement contains rules: (1) for determining which country's laws cover the period of work, and to which system the worker pays taxes; and (2) that assign a worker's coverage to the country where the worker has the greater economic attachment. The agreements further dictate that, upon the request of the worker or employer, the country under whose system the period of work is covered will issue a certificate of coverage. The certificate serves as proof of exemption from coverage and taxation under the system of the other country. The information we collect assists us in determining a worker's coverage and in issuing a U.S. certificate of coverage as appropriate. Per our agreements, we ask a set number of questions to the workers and employers prior to issuing a certificate of coverage; however, our agreements with thirteen of the countries (Denmark, Iceland, Netherlands, Norway, Sweden, Germany, Italy, Spain, Uraguay, Belgium, Poland, France, and Japan) require us to ask a few more questions in those countries. Respondents are workers and employers wishing to establish exemption from foreign Social Security taxes.

Note: SSA is updating the Privacy Act and Paperwork Reduction Act Statements on these forms to comply with current legal requirements.

Type of Request: Revision of an OMB-approved information collection.

Modality of completion | Number of respondents | Frequency of response | Average burden per response (minutes) | Estimated total annual burden (hours) | Average theoretical hourly cost amount (dollars) * | Total annual opportunity cost (dollars) **
Requests via Letter—Individuals (minus Denmark, Iceland, Netherlands, Norway, Sweden, Germany, Italy, Spain, Uruguay, France, Japan, Belgium, and Poland) | 43 | 1 | 40 | 29 | * $32.66 | ** $947
Requests via Internet—Individuals (minus Denmark, Iceland, Netherlands, Norway, Sweden, Germany, Italy, Spain, Uruguay, France, Japan, Belgium, and Poland) | 995 | 1 | 40 | 663 | 32.66 | ** 21,654
Requests via Letter—Individuals in Denmark, Iceland, Netherlands, Norway, and Sweden | + 1 | 1 | 1 | 0 | 32.66 | 0
Requests via Internet—Individuals in Denmark, Iceland, Netherlands, Norway, and Sweden | 122 | 1 | 41 | 83 | 32.66 | 2,711
Requests via Letter—Individuals in Germany, Italy, Spain, Uruguay | 12 | 1 | 44 | 9 | 32.66 | 294
Requests via Internet—Individuals in Germany, Italy, Spain, Uruguay | 1,013 | 1 | 41 | 692 | 32.66 | 22,601
Requests via Letter—Individuals in France and Japan | 10 | 1 | 44 | 7 | 32.66 | 229
Requests via Internet—Individuals in France and Japan | 1,023 | 1 | 40 | 682 | 32.66 | 22,274
Requests via Letter—Individuals in Belgium | 0 | 1 | 41 | 0 | 32.66 | 0
Requests via Internet—Individuals in Belgium | 51 | 1 | 41 | 35 | 32.66 | 1,143
Requests via Letter—Individuals in Poland | 2 | 1 | 41 | 1 | 32.66 | 33
Requests via Internet—Individuals in Poland | 52 | 1 | 41 | 36 | 32.66 | 1,161
Requests via Letter—Employer (minus Denmark, Iceland, Netherlands, Norway, Sweden, Germany, Italy, Spain, Uruguay, France, Japan, Belgium, and Poland) | 76 | 1 | 40 | 51 | 32.66 | 1,666
Requests via Internet—Employer (minus Denmark, Iceland, Netherlands, Norway, Sweden, Germany, Italy, Spain, Uruguay, France, Japan, Belgium, and Poland) | 7,664 | 1 | 40 | 5109 | 32.66 | 166,860
Requests via Letter—Employer in Denmark, Iceland, Netherlands, Norway, and Sweden | 4 | 1 | 44 | 3 | 32.66 | 98
Requests via Internet—Employer in Denmark, Iceland, Netherlands, Norway, and Sweden | 1,347 | 1 | 44 | 988 | 32.66 | 32,268
Requests via Letter—Employer in Germany, Italy, Spain, Uruguay | 22 | 1 | 41 | 15 | 32.66 | 490
Requests via Internet—Employer in Germany, Italy, Spain, Uruguay | 3,601 | 1 | 41 | 2461 | 32.66 | 80,376
Requests via Letter—Employer in France and Japan | 12 | 1 | 41 | 8 | 32.66 | 261
Requests via Internet—Employer in France and Japan | 4,073 | 1 | 41 | 2783 | 32.66 | 90,893
Requests via Letter—Employer in Belgium | 1 | 1 | 44 | 1 | 32.66 | 33
Requests via Internet—Employer in Belgium | 434 | 1 | 41 | 297 | 32.66 | 9,700
Requests via Letter—Employer in Poland | 1 | 1 | 41 | 1 | 32.66 | 33
Requests via Internet—Employer in Poland | 210 | 1 | 41 | 144 | 32.66 | 4,703
Totals | 20,123 |  |  | 13,656 |  | 460,425
+ We are including a one-hour placeholder burden for the information collection for which we currently have no responses (mostly the mailed/faxed letters, as we do not receive these often, since we collect almost all responses via our internet-based forms). While respondents may use this modality if the system goes down, in general, they prefer to use the internet submission process.
* We based this figure on average U.S. citizen's hourly salary, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.

5. Disability Report-Child—20 CFR 416.912—0960-0577. Sections 223(d)(5)(A) and 1631(e)(1) of the Act require Supplemental Security Income (SSI) claimants to furnish medical and other evidence to prove they are disabled. SSA uses Form SSA-3820-BK to collect information regarding a child applying for SSI disability payments. The information we collect on the SSA-3820-BK then provides the State Disability Determination Services (DDS) adjudicators a detailed explanation of a child's medical history that is essential to the disability determination. SSA uses Form SSA-3820-BK to collect contact and biographic information about a child. It also includes details pertaining to the child's condition including medical treating sources, medications being taken, medical tests, educational background, and work history if relevant. The State (DDS) evaluators use the information from Form SSA-3820-BK, including its electronic versions, to request and develop medical and school evidence, and to assess the alleged disability. The information collected on the form, together with medical evidence and other sources of non-medical evidence, provides the evidentiary basis upon which SSA makes its initial disability evaluation. The respondents are the responsible adult(s) applying on behalf of the child, such as the parents, guardians, and other caretakers who petition SSI childhood disability for initial and reconsideration decisions.

Note: SSA is updating the Privacy Act and Paperwork Reduction Act Statements on these forms to comply with current legal requirements.

Type of Request: Revision of an OMB-approved information collection.

Modality of completion | Number of respondents | Frequency of response | Average burden per response (minutes) | Estimated total annual burden (hours) | Average theoretical hourly cost amount (dollars) * | Average wait time in field office or teleservice center (minutes) ** | Total annual opportunity cost (dollars) ***
SSA-3820 Paper Version | 771 | 1 | 90 | 1,157 | $14.27 | ** 16 | *** $19,450
EDCS Intranet Version | 255,984 | 1 | 120 | 511,968 | 14.27 | ** 32 | *** 9,253,995
i3820 Internet Version | 96,481 | 1 | 120 | 192,962 | 14.27 | ** 0 | *** 2,753,568
Totals | 353,236 |  |  | 706,087 |  |  | *** 12,027,013
* We based this figure on the average DI payments based on SSA's current FY 2026 data (Effect of COLA on Average Social Security Benefits).
** We based this figure on the average combined FY 2026 wait times for field offices (16 minutes) and for teleservice centers (47 minutes which includes the average speed of answer of 6 minutes as well as the average 41 minute wait time for a call back from an SSA technician), based on SSA's current management information data. This figure reflects both data from our systems and the data posted on our public facing website (800 number performance | SSA) on the date we drafted this notice. As the figures fluctuate daily, the wait times may be different on the publication date of this notice. We note that we combined these two figures for the purposes of this information collection, as SSA does not track whether the respondents who complete the EDCS interview do so via telephone or in person.
*** This figure does not represent actual costs that SSA is imposing on recipients of Social Security payments to complete this application; rather, these are theoretical opportunity costs for the additional time respondents will spend to complete the application. There is no actual charge to respondents to complete the application.

6. Consent Based Social Security Number Verification Process—20 CFR 400.100—0960-0760. The Consent Based Social Security Number Verification (CBSV) process is a fee-based automated Social Security number (SSN) verification service available to private businesses and other requesting parties. To use the system, private businesses and requesting parties must register with SSA and obtain valid consent from SSN holders prior to verification. We collect the information to verify if the submitted name and SSN match the information in SSA records. After completing a registration process and paying the fee, the requesting party can use the CBSV process to submit a file containing the names of number holders who gave valid consent, along with each number holder's accompanying SSN and date of birth (if available) to obtain real-time results using a web service application or SSA's Business Services Online (BSO) application. SSA matches the information against the SSA master file of SSNs, using SSN, name, date of birth, and gender code (if available). The requesting party retrieves the results file from SSA, which indicates only a match or no match for each SSN submitted.

Under the CBSV process, the requesting party does not submit the consent forms of the number holders to SSA. SSA requires each requesting party to retain a valid consent form for each SSN verification request. The requesting party retains the consent forms in either electronic or paper format.

SSA added a strong audit component to ensure the integrity of the CBSV process. At the discretion of the agency, we require audits (called “compliance reviews”) with the requesting party paying all audit costs. Independent certified public accounts (CPAs) conduct these reviews to ensure compliance with all the terms and conditions of the party's agreement with SSA, including a review of the consent forms. CPAs conduct the reviews at the requesting party's place of business to ensure the integrity of the process. In addition, SSA reserves the right to perform unannounced onsite inspections of the entire process, including review of the technical systems that maintain the data and transaction records. The respondents to the CBSV collection are the participating companies; members of the public who consent to the SSN verification; and CPAs who provide compliance review services.

Note: We are revising the burden for this information collection.

Type of Request: Revision of an OMB-approved information collection.

Time Burden
Requirement | Number of respondents | Frequency of response | Number of responses | Average burden per response (minutes) | Estimated total annual burden (hours) | Average theoretical hourly cost amount (dollars) * | Total annual opportunity cost (dollars) **
Participating Companies
Registration process for new participating companies | *** 8 | 1 | 8 | 120 | 16 | * $45.04 | *** $721
Creation of file with SSN holder identification data; maintaining required documentation/forms | 52 | **** 251 | 13,052 | 60 | 13,052 | * 45.04 | ** 587,862
Using the system to upload request file, check status, and download results file | 52 | 251 | 13,052 | 5 | 1,088 | * 45.04 | ** 49,004
Storing Consent Forms | 52 | 251 | 13,052 | 60 | 13,052 | * 45.04 | ** 587,862
Activities related to compliance review | 52 | 251 | 13,052 | 60 | 13,052 | * 45.04 | ** 587,862
Totals | 216 |  | 52,213 |  | 52,224 |  | ** 1,813,311
Participating Companies Who Opt for External Testing Environment (ETE)
ETE Registration Process (includes reviewing and completing ETE User Agreement) | 19 | 1 | 19 | 180 | 57 | * 45.04 | ** 2,567
Web Service Transactions | 19 | 50 | 950 | 1 | 16 | * 45.04 | ** 721
Reporting Issues Encountered on Web service testing (e.g., reports on application's reliability) | 19 | 50 | 950 | 1 | 16 | * 45.04 | ** 721
Reporting changes in users' status (e.g., termination or changes in users' employment status; changes in duties of authorized users) | 19 | 1 | 19 | 60 | 19 | * 45.04 | ** 856
Cancellation of Agreement | 19 | 1 | 19 | 30 | 10 | * 45.04 | ** 450
Dispute Resolution | 19 | 1 | 19 | 120 | 38 | * 45.04 | ** 1,711
Totals | 114 |  | 3,004 |  | 156 |  | 7,026
People Whose SSNs SSA Will Verify
Reading and signing authorization for SSA to release SSN verification (Form SSA-89) | 597,295 | 1 | 597,295 | 3 | 29,865 | * 23.47 | ** 700,932
Responding to CPA re-contact | 3,074 | 1 | 3,074 | 5 | 256 | * 45.04 | ** 11,530
Totals | 600,369 |  | 600,369 |  | 30,121 |  | ** 712,462
* We based this figure by averaging both the average DI payments based on SSA's current FY 2026 data (Effect of COLA on Average Social Security Benefits), and the average U.S. worker's hourly wages, as reported by Bureau of Labor Statistics data (Occupational Employment and Wage Statistics); and on the average Business and Financial operations occupations hourly salaries, as reported by Bureau of Labor Statistics data (Occupational Employment and Wage Statistics).
** This figure does not represent actual costs that SSA is imposing on recipients of Social Security payments to complete this application; rather, these are theoretical opportunity costs for the additional time respondents will spend to complete the application. There is no actual charge to respondents to complete the application.
*** One-time registration process approximately 10 new participating companies per year.
**** Please note there are 251 Federal business days per year on which a requesting party could submit a file.
There is one CPA respondent conducting compliance reviews and preparing written reports of findings. The average burden per the 52 responses is 3,120 minutes for a total burden of 6,400 hours annually.

7. Statement for Determining Continuing Entitlement for Special Veterans Benefits (SVB)—0960-0782. Title VIII of the Act provides for the payment of Special Veterans benefits (SVB) to certain World War II veterans who reside outside of the United States. SSA regularly reviews individuals' claims for SVB to determine their continued eligibility and correct payment amounts. SSA requires individuals living outside the United States receiving SVB to report any changes to SSA that may affect their benefits. These include changes such as: (1) a change in mailing address or residence; (2) an increase or decrease in a pension, annuity, or other recurring benefit; (3) a return or visit to the United States for a calendar month or longer; or (4) an inability to manage benefits. SSA uses Form SSA-2010-F6, to collect this information. All beneficiaries have face-to-face interviews with the Federal Benefits Unit (FBU) every year who assist them in completing this form. Respondents are SVB beneficiaries living outside the United States.

This is a correction notice: SSA published the incorrect burden information for this collection at 90 FR 34329, on 7/21/25. We are correcting this error here.

Note: We are revising the burden for this information collection and updating the Privacy Act Statement to comply with current legal requirements.

Type of Request: Revision of an OMB-approved information collection.

Modality of completion | Number of respondents | Frequency of response | Average burden per response (minutes) | Estimated total annual burden (hours) | Average theoretical hourly cost amount (dollars) * | Average wait time for a field office | Total annual opportunity cost (dollars) ***
SSA-2010 | 27 | 1 | 20 | 9 | * $32.66 | ** 16 | *** $523
* We based this figure on average U.S. worker's hourly wages, as reported by Bureau of Labor Statistics data (Occupational Employment and Wage Statistics).
** We based this figure on the average FY 2026 wait times for field offices (16 minutes), based on SSA's current management information data. This figure reflects the data posted on our public facing website (800 number performance | SSA) on the date we drafted this notice. As the figures fluctuate daily, the wait times may be different on the publication date of this notice.
*** This figure does not represent actual costs that SSA is imposing on recipients of Social Security payments to complete this application; rather, these are theoretical opportunity costs for the additional time respondents will spend to complete the application. There is no actual charge to respondents to complete the application.

Mark Steffensen,
General Counsel, Chief of Law and Policy, Social Security Administration.

[FR Doc. 2025-23098 Filed 12-16-25; 8:45 am]

BILLING CODE 4191-02-P